DEPARTMENT OF HEALTH AND HUMAN SERVICES

Administration for Children and Families

[OMB No. 0970-0218]

Submission for Office of Management and Budget Review; Tribal Child Support Enforcement Direct Funding Request

AGENCY: Office of Child Support Enforcement, Administration for Children and Families, Department of Health and Human Services.

ACTION: Request for public comments.

SUMMARY: The Office of Child Support Enforcement (OCSE), Administration for Children and Families (ACF) is requesting a 3-year extension of the Tribal Child Support Enforcement Direct Funding Requests-45 CFR 309 (Office of Management and Budget (OMB)) #0970-0218, expiration March 31, 2023) with revisions. We are proposing to provide an optional Table of Contents and Cover Sheet for plan pages.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing ocse.tribal@acf.hhs.gov. Identify all emailed requests by the title of the information collection.

SUPPLEMENTARY INFORMATION: Description: The final rule within 45 CFR part 309, published in the Federal Register on March 30, 2004, contains a regulatory reporting requirement that, in order to receive funding for a Tribal IV-D program, a tribe or tribal organization must submit a plan describing how the tribe or tribal organization meets or plans to meet the objectives of section 455(f) of the Social Security Act, including establishing paternity; establishing, modifying, and enforcing support orders; and locating noncustodial parents. The plan is required for all tribes requesting funding; however, once a tribe has met the requirements to operate a comprehensive program, a new plan is not required annually unless a tribe makes changes to its title IV-D program. If a tribe or tribal organization intends to make any substantial or material changes, a Tribal IV-D plan amendment must be submitted for approval. Tribes and tribal organizations must have an approved plan and submit any required plan amendments in order to receive funding to operate a Tribal IV-D program. With this request to extend approval of this information collection, OCSE is proposing a change to the paperwork collection by providing optional plan pages. The optional plan pages organize the Tribal IV-D plan, identify required attachments, and streamline plan amendment submissions. Tribes and tribal organizations who choose to participate will attest to complying with the regulatory requirements in 45 CFR, Parts 309 and 310 and submit plan amendments for changes to the required attachments identified in the Table of Contents. The optional plan pages organize the Tribal IV-D plan, identify required attachments, and streamline plan amendment submissions.

Respondents: Tribes and tribal Organizations.

Annual Burden Estimates
Instrument | Total number of respondents | Annual number of responses per respondent | Average burden hours per response | Annual burden hours
45 CFR 309-New Plan | 2 | 1 | 480 | 960
45 CFR 309-Plan Amendment | 60 | 1 | 105 | 6300

Estimated Total Annual Burden Hours: 7,260.

Authority: Title IV-D of the Social Security Act; 45 CFR 309.

Mary B. Jones,
ACF/OPRE Certifying Officer.

[FR Doc. 2022-28053 Filed 12-23-22; 8:45 am]

BILLING CODE 4184-41-P